Proclamation 8747 of November 1, 2011

National Entrepreneurship Month, 2011

By the President of the United States of America

A Proclamation

From inventing the traffic light to developing the artificial heart, our Nation’s doers, makers, and entrepreneurs have proven time and again that, in America, it takes only a single good idea and the courage to pursue it to change history. In fulfilling this simple promise, these visionaries play a critical role in sparking new industries, expanding our economy, and generating new job growth across our country. This month, we celebrate the remarkable and everyday successes of our entrepreneurs and innovators, and we reaffirm our commitment to ensuring that our economy remains the engine and the envy of the world.

Earlier this year, my Administration launched the Startup America initiative, which accelerates the success of our entrepreneurs by unlocking access to capital, cutting red tape, and expanding mentorship and educational opportunities. The initiative works to improve the climate for all high-growth companies, and includes specific provisions to bring expertise and services to entrepreneurial scientists, students, immigrants, and veterans. Startup America also coordinates action across the Federal Government to bolster private investment in early-stage companies, helping ensure that our best ideas have a chance to get off the ground and into the marketplace. By making it faster and easier for entrepreneurs to turn new ideas into new businesses and new jobs, we are building an innovation economy that will propel our Nation into the future.

To fast-track our startups and enable them to bring products to market more quickly, I signed the America Invents Act in September of this year. This essential legislation will help entrepreneurs and inventors secure a patent three times faster than they can today, drastically cutting the time it takes to roll out novel technologies and products. The Act will also improve the quality of our patents and do more to give entrepreneurs the protection and confidence they need to attract investment, grow their businesses, and hire more workers. We stand at a moment when our Nation’s economy must become more dynamic and flexible than ever before, and these reforms will help us meet this challenge.

My Administration is also working to create new opportunities for collaboration within the private sector. Run by and for entrepreneurs, the independent Startup America Partnership has assembled an extensive network of mentors, advisors, investors, and established corporations to share strategic assets with our country’s next great innovators. This movement harnesses the agility, intelligence, and ingenuity that has powered our success for generations and uses it to fuel our growth in rapidly evolving, global markets.

The task of making America competitive throughout the 21st century is a job for all of us. By cultivating innovation on our college and university campuses, we can inspire the next generation of entrepreneurial leaders. With the help of experienced entrepreneurs and companies, and through events like Global Entrepreneurship Week, which begins on November 14, we can ensure our startups have access to the resources, connections, and partnerships that will promote their success. To encourage great ideas in all parts of our country, our lending institutions, foundations, and investors can finance vibrant entrepreneurial ecosystems that extend to our rural and underserved communities. By pooling our talents and investing in the creativity and imagination of our people, we can move forward with the spirit of hope and ambition that has defined our past and will drive our Nation in the years to come.

NOW, THEREFORE, I, BARACK OBAMA, President of the United States of America, by virtue of the authority vested in me by the Constitution and the laws of the United States, do hereby proclaim November 2011 as National Entrepreneurship Month. I call upon all Americans to commemorate this month with appropriate programs and activities.

IN WITNESS WHEREOF, I have hereunto set my hand this first day of November, in the year of our Lord two thousand eleven, and of the Independence of the United States of America the two hundred and thirty-sixth.

[FR Doc. 2011-28842

Filed 11-3-11; 11:15 am]

Billing code 3295-F2-P